DEPARTMENT OF HEALTH AND HUMAN SERVICES

[Document Identifier: OS-0990-0169; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: Uniform Administrative Requirements for Grants and Cooperative Agreements to State and Local Governments (Extension)—OMB No. 0990-0169—Office of Grants, ASRT, OS.

Abstract: The information collection is for pre-award, post-award, and subsequent reporting and recordkeeping requirements for grants and cooperative agreements. The information collected is necessary to award, monitor, close out and manage grant programs, ensure minimum fiscal control and accountability for Federal funds and deter fraud, waste, and abuse. HHS needs this information to meet its Federal stewardship responsibilities. The authorization for the collection of information is under the Department of Health and Human Services regulation 45 CFR part 92, “Uniform Administrative Requirements for Grants and Cooperative Agreements to State and Local Governments.” The requested extension is for 3 years. Respondents are State, local and tribal governments.

Estimated Annualized Burden Table
Type of respondent | Number of respondents | Number of responses per respondent | Average burden hours per response | Total burden hours
State, Local and Tribal Governments | 4,000 | 1 | 70 | 280,000

Seleda Perryman,
Office of the Secretary, Paperwork Reduction Act Reports Clearance Officer.

[FR Doc. E9-22563 Filed 9-17-09; 8:45 am]

BILLING CODE 4150-24-P